DEPARTMENT OF HEALTH AND HUMAN SERVICES

Administration for Children and Families

Submission for Office of Management and Budget Review; Electronic Document Exchange (Office of Management and Budget #: 0970-0435)

AGENCY: Office of Child Support Enforcement, Administration for Children and Families, U.S. Department of Health and Human Services.

ACTION: Request for public comments.

SUMMARY: The Office of Child Support Enforcement (OCSE), Administration for Children and Families (ACF), is requesting the Office of Management and Budget (OMB) to approve the Electronic Document Exchange (EDE), with minor revisions, for an additional three years. State child support agencies (CSAs) use the EDE to improve case processing. The current OMB approval expires on June 30, 2025.

DATES: Comments due June 26, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: The EDE provides a centralized, secure system for authorized users in state CSAs to electronically exchange child support and spousal support case information with other state child support agencies. EDE benefits state CSAs by reducing delays, costs, and barriers associated with interstate case processing. It increases state collections, improves document security, standardizes data sharing, increases state participation, and improves case processing, resulting in better overall child and spousal support outcomes. OCSE made minor updates to the Portal screens to enhance functionality.

Respondents: State CSAs

Annual Burden Estimates
Instrument | Annual number of respondents | Annual number of responses per respondent | Average burden hours per response | Annual burden hours
EDE Screens | 49 | 7,383 | 0.017 | 6,150

Authority: 42 U.S.C. 652(a)(7); 42 U.S.C. 666(c)(1); and 45 CFR 303.7(a)(5).

Mary C. Jones,
ACF/OPRE Certifying Officer.

[FR Doc. 2025-09379 Filed 5-23-25; 8:45 am]

BILLING CODE 4184-41-P